DEPARTMENT OF THE INTERIOR

National Park Service

[NPS-WASO-DPOL-10890; 0004-SYP]

Notice of August 16, 2012, Teleconference Meeting of the National Park System Advisory Board

AGENCY: National Park Service, Interior.

ACTION: Meeting Notice.

SUMMARY: Notice is hereby given in accordance with the Federal Advisory Committee Act, 5 U.S.C. Appendix, that the National Park System Advisory Board will conduct a teleconference meeting on August 16, 2012. Members of the public may attend the meeting in person in Washington, DC.

DATES: The teleconference meeting will be held on August 16, 2012, from 2:00 p.m., to 3:30 p.m., Eastern Daylight Time, inclusive.

ADDRESSES: The teleconference meeting will be conducted in Meeting Room C of the American Geophysical Union, 2000 Florida Avenue NW., Washington, DC 20009, telephone (202) 462-6900.

Agenda: During this teleconference, the Board will deliberate the report of its Science Committee and make recommendations to the Director of the National Park Service. The Board also will consider the content and format for its year-end report.

FOR FURTHER INFORMATION CONTACT: For information concerning the National Park System Advisory Board or to request to address the Board, contact Shirley Sears Smith, National Park Service, 1201 I Street NW., 12th Floor, Washington, DC 20005, telephone (202) 354-3955, email shirley_s_smith@nps.gov.

SUPPLEMENTARY INFORMATION: Due to the limited scope of this meeting, the National Park Service has determined that a teleconference will be the most efficient way to convene the Board members. The Board meeting will be open to the public in the same way that other Board meetings have been open to the public. Space and facilities to accommodate the public are limited and attendees will be accommodated on a first-come basis. Opportunities for oral comment will be limited to no more than 3 minutes per speaker and no more than 15 minutes total. The Board's Chairman will determine how time for oral comments will be allotted. Anyone may file with the Board a written statement concerning matters to be discussed. Before including your address, telephone number, email address, or other personal identifying information in your comment, you should be aware that your entire comment—including your personal identifying information—may be made publicly available at any time. While you can ask us in your comment to withhold your personal identifying information from public review, we cannot guarantee that we will be able to do so.

Draft minutes of the meeting will be available for public inspection about 12 weeks after the meeting in the 12th floor conference room at 1201 I Street NW., Washington, DC.

Dated: July 25, 2012.
Alma Ripps,
Acting Chief, Office of Policy.

[FR Doc. 2012-18580 Filed 7-30-12; 8:45 am]

BILLING CODE 4310-EE-P